COMMITTEE FOR PURCHASE FROM PEOPLE WHO ARE BLIND OR SEVERELY DISABLED

Correction of Notice of Deletion

In the document appearing on page 19479, FR Doc. E6-5585, Procurement List Additions and Deletions, in the issue of April 14, 2006, in the third column, the Committee published deletions of a Mophead, Dusting, Cotton, NSN 7920-00-205-0488, and a Mop, Dusting, Cotton, NSN 7920-00-205-0484. Following the publication of this Notice, the Committee was informed that the two NSNs were erroneously added to the list of products to be deleted. The Committee is therefore canceling the deletion of these two NSNs from the Procurement List. The other deletions announced in the Notice remain in effect.

Sheryl D. Kennerly,
Director, Information Management.

[FR Doc. E6-8561 Filed 6-1-06; 8:45 am]

BILLING CODE 6353-01-P